DEPARTMENT OF COMMERCE

National Oceanic and Atmospheric Administration

[RTID 0648-XC839]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet April 4, 2023, through April 11, 2023.

DATES: The Council's Scientific and Statistical Committee (SSC) will begin at 8 a.m. in the Aleutian room on Tuesday, April 4, 2023, and continue through Wednesday, April 5, 2023. The Ecosystem Committee will meet Tuesday, April 4, 2023, from 8:30 a.m. to 5 p.m. in the Denali room. The Enforcement Committee will meet Tuesday April 4, 2023, from 1 p.m. to 4 p.m. in the Council's offices. The Council's Advisory Panel (AP) will begin at 8 a.m. in the Denali room on Wednesday, April 5, 2023, and continue through Friday, April 7, 2023. The Council will begin at 8 a.m. in the Aleutian room on Thursday, April 6, 2023, and continue through Tuesday, April 11, 2023. All times listed are Pacific Time.

ADDRESSES:

Meeting address: The meetings will be a hybrid conference. The in-person component of the meeting will be held at the Hilton Hotel, 500 W 3rd Ave., Anchorage, AK 99501, or join the meeting online through the links at https://www.npfmc.org/upcoming-council-meetings.

Council address: North Pacific Fishery Management Council, 1007 W 3rd Ave., Anchorage, AK 99501-2252; telephone: (907) 271-2809. Instructions for attending the meeting via webconference are given under Connection Information, below

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Tuesday, April 4, 2023, Through Wednesday, April 5, 2023

The SSC agenda will include the following issues:

(1) Report on SSC rapid environmental change workshop

(2) Groundfish Plan Team December 2022 workgroup recommendations

(3) Bering Sea Fishery Ecosystem Plan (BS FEP) Climate Change Taskforce (CCTF)—Review workplan, report

(4) Scallops—Stock Assessment and Fishery Evaluation (SAFE) report, Acceptable biological catch (ABC)/Over Fishing Limit (OFL), Plan Team report

(5) Cook Inlet Salmon Fishery Management Plan (FMP) Amendment—Final Action

(6) Groundfish and Crab Economic SAFE reports

(7) BS FEP Local Knowledge, Traditional Knowledge, Subsistence (LKTKS) Taskforce—Review Draft Protocol, Taskforce report

(8) Annual Community Engagement and Participation Overview (ACEPO) report, NSRKC research update

The agenda is subject to change, and the latest version will be posted at https://meetings.npfmc.org/Meeting/Details/2986 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, April 4, 2023

The Ecosystem Committee agenda will include (a) Groundfish PEIS planning and (b) other business. The agenda is subject to change, and the latest version will be posted at https://meetings.npfmc.org/Meeting/Details/2984 prior to the meeting, along with meeting materials.

Tuesday, April 4, 2023

The Enforcement Committee will be reviewing enforcement tools and regulatory prohibitions of a newly managed federal fishery Cook Inlet Salmon. Topics will include gear marking, gear specifications, recording keeping and reporting, monitoring, and requirements for entry or shifting between federal and State fishery. The agenda is subject to change, and the latest version will be posted at https://meetings.npfmc.org/Meeting/Details/2985 prior to the meeting, along with meeting materials.

Wednesday, April 5, 2023, Through Friday, April 7, 2023

The Advisory Panel agenda will include the following issues:

(1) Report on SSC rapid environmental change workshop

(2) Cook Inlet Salmon FMP Amendment—Final Action, Enforcement Committee report

(3) Salmon bycatch reports—review (a) Chinook/chum genetics reports for BS, Gulf of Alaska (GOA); (b) pollock IPA reports, Sea Share, and (c) Salmon Bycatch Committee recommendations

(4) Scallops—SAFE report, ABC/OFL, Plan Team report

(5) Scallop FMP multi-year specifications amendment

(6) Greenland turbot in longline pots

(7) BS FEP LKTKS Taskforce—Review Draft Protocol, Taskforce report

(8) BS FEP CCTF—Review workplan, report

(9) Staff Tasking

Thursday, April 6, 2023, Through Tuesday, April 11, 2023

The Council agenda will include the following issues. The Council may take appropriate action on any of the issues identified.

(1) B Reports (Executive Director, NMFS Management, NOAA General Counsel (GC), Alaska Fishery Science Center (AFSC), Alaska Department of Fish and Game (ADF&G), United States Coast Guard (USCG), United States Fish and Wildlife Service (USFWS), National Institute for Occupational Safety & Health (NIOSH) report, US Navy Report, North Pacific Fisheries Commission report, Cooperative reports, Advisory Panel, SSC report)

(2) Cook Inlet Salmon FMP amendment—Final Action, Enforcement Committee report

(3) Salmon bycatch reports—review (a) Chinook/chum genetics reports for BS, GOA; (b) pollock IPA reports, Sea Share, and (c) Salmon Bycatch Committee recommendations

(4) Scallops—SAFE report, ABC/OFL, Plan Team report

(5) Scallop FMP multi-year specifications amendment—Initial/Final action

(6) Greenland turbot in longline pots—Final Action

(7) Report on SSC rapid environmental change workshop—Review

(8) BS FEP LKTKS Taskforce—Review Draft Protocol, Taskforce report

(9) BS FEP Climate Change Taskforce—Review workplan, report

(10) Staff Tasking

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from March 17, 2023, to March 31, 2023, and closes at 12 p.m. Alaska Time on Friday, March 31, 2023.

Authority: 16 U.S.C. 1801 et seq.

Dated: March 13, 2023.
Rey Israel Marquez,
Acting Deputy Director, Office of Sustainable Fisheries, National Marine Fisheries Service.

[FR Doc. 2023-05402 Filed 3-15-23; 8:45 am]

BILLING CODE 3510-22-P